DEPARTMENT OF THE INTERIOR

National Park Service

National Register of Historic Places; Notification of Pending Nominations

Nominations for the following properties being considered for listing in the National Register were received by the National Park Service before November 30, 2002. Pursuant to section 60.13 of 36 CFR part 60 written comments concerning the significance of these properties under the National Register criteria for evaluation may be forwarded by United States Postal Service, to the National Register Historic Places, National Park Service, 1849 C St., NW., 2280, Washington, DC 20240; by all other carriers, National Register of Historic Places, National Park Service, 1201 Eye St., NW., 8th floor, Washington, DC 20005; or by fax, 202-343-1836. Written or faxed comments should be submitted by January 7, 2003.

Carol D. Shull,
Keeper of the National Register of Historic Places.

ARKANSAS

Ashley County

Crossett Post Office, 125 Main St., Crossett, 02001673.

Craighead County

Westbrooke, Edward L., Building, 505 Union St., Jonesboro, 02001675.

Poinsett County

Willie Lamb Post No. 26 American Legion Hut, 205 Alexander St., Lepanto, 02001674.

CONNECTICUT

Fairfield County

March Route of Rochambeau's Army: Reservoir Road, (Rochambeau's Army in Connecticut, 1780-1782 MPS), Jct. of Reservoir Rd and Mt. Pleasant Rd. S, Newtown, 02001679.

New Haven County

Ward—Heitman House, 277 Elm St., West Haven, 02001691.

Tolland County

March Route of Rochambeau's Army: Bailey Road, (Rochambeau's Army in Connecticut, 1780-1782 MPS), Bailey Rd., Bolton, 02001677.

Windham County

Fourth Camp of Rochambeau's Army, (Rochambeau's Army in Connecticut, 1780-1782 MPS), Address Restricted, Windham, 02001680.

March Route of Rochambeau's Army: Manship Road-Barstow Road, (Rochambeau's Army in Connecticut, 1780-1782 MPS), Manship Rd., Barstow Rd. from jct. with Manship Rd. to Westminister Rd., Canterbury, 02001678.

FLORIDA

Manatee County

Richardson House, 1603 1st Ave. W, Bradenton, 02001676.

MISSOURI

Jackson County

Kansas City Power and Light Company Building, 1330 Baltimore Ave., Kansas City, 02001696.

Long, R.A., Building, 928 Grand Blvd., Kansas City, 02001683.

St. Louis County

Henry Avenue Historic District, 120, 210, 211, 218, 220, 226, 230, 310, 314, 320 and Henry Ave., Manchester, 02001692.

St. Louis Independent City

South Side National Bank, 3606 Gravois Ave., St. Louis (Independent City), 02001697.

MONTANA

Lewis and Clark County

Regan, Thomas P., Cabin, McDonald Pass, Helena, 02001686.

New Mexico

Union County

Goodson Memorial School, (New Deal in New Mexico MPS), NM 456, approx. 4 mi. W of jct. with NM 406, Seneca, 02001693.

OHIO

Richland County

Raemelton Farm Historic District, Bounded by Marion Ave., Millsboro and Trimble Rds., Mansfield, 02001682.

Trumbull County

Jones, Elam, Public House, 3365 OH 7, Hartford, 02001687.

WEST VIRGINIA

Berkeley County

Pitzer, Elias, House, 1076 Clyde Borum Rd., Martinsburg, 02001689.

Rees, Morris, III House, WV 24, 0.2 mi. S of WV 51, Garrardstown, 02001681.

Preston County

Indian Rocks Dining Hall, WV 7, 1 mi. E of Reedsville, Reedsville, 02001688.

Wood County

Fort Boreman, Address Restricted, Parkersburg, 02001690.

WISCONSIN

Kenosha County

Southport Beach House, 7825 First Ave., Kenosha, 02001684.

In order to aid in the preservation of the following resource(s) the comment period has been shortened to three days:

CONNECTICUT

New Haven County

Andrew, William, House, 131 Old Tavern Rd., Orange, 001695.

MISSOURI

Greene County

Wise Feed Company Building, 438-440 S. Campbell Ave., Springfield, 02001685.

In order to aid in the preservation of the following resource(s) the comment period has been waived:

FLORIDA

Palm Beach County

Eastover, 1100 S. Ocean Blvd., Manalapan, 02001694.

[FR Doc. 02-32173 Filed 12-20-02; 8:45 am]

BILLING CODE 4310-70-P